DEPARTMENT OF COMMERCE

International Trade Administration

[C-533-878]

Stainless Steel Flanges From India: Final Results of Countervailing Duty Administrative Review; 2020

AGENCY: Enforcement and Compliance, International Trade Administration, Department of Commerce.

SUMMARY: The U.S. Department of Commerce (Commerce) determines that countervailable subsidies are being provided to producers and exporters of stainless steel flanges (steel flanges) from India during the period of review, January 1, 2020, through December 31, 2020.

DATES: Applicable October 31, 2022.

FOR FURTHER INFORMATION CONTACT: Eliza Siordia, AD/CVD Operations, Office V, Enforcement and Compliance, International Trade Administration, U.S. Department of Commerce, 1401 Constitution Avenue NW, Washington, DC 20230; telephone: (202) 482-3878.

SUPPLEMENTARY INFORMATION:

Background

On July 12, 2022, Commerce published the Preliminary Results of this administrative review in the Federal Register.¹ Although we invited interested parties to comment on the Preliminary Results,² we received no comments. Accordingly, no decision memorandum accompanies this Federal Register notice, and no changes have been made in the final results of this review.

¹ See Stainless Steel Flanges from India: Preliminary Results of Countervailing Duty Administrative Review; 2020, 87 FR 41282 (July 12, 2022) (Preliminary Results), and accompanying Preliminary Decision Memorandum.

² Id., 87 FR at 41283.

Scope of the Order ³

³ See Stainless Steel Flanges from India: Countervailing Duty Order, 83 FR 50336 (October 5, 2018) (Order).

The merchandise covered by the Order is stainless steel flanges from India. For a complete description of the scope of the Order, see Appendix I.

Final Results of Review

For the period January 1, 2020, through December 31, 2020, we determine that the following net subsidy rates exist:

Company | Subsidy rate (percent ad valorem)
Chandan Steel Limited | 4.31
Goodluck India Limited ⁴ | 3.34
Non-Selected Companies Under Review ⁵ | 4.14

Disclosure

⁴ Entries for Goodluck India Limited may have been made under the company name Good Luck Engineering Co. or Goodluck Engineering Co. See Preliminary Decision Memorandum.

⁵ See Appendix II for a list of companies not selected for individual examination.

Normally, Commerce discloses to interested parties the calculations performed in connection with the final results of review within five days of a public announcement or, if there is no public announcement, within five days of the date of publication of the notice of final results in the Federal Register, in accordance with 19 CFR 351.224(b). However, because we have made no changes from the Preliminary Results, there are no calculations to disclose.

Assessment Rates

Consistent with section 751(a)(2)(C) of the Tariff Act of 1930, as amended (the Act) and 19 CFR 351.212(b)(2), upon completion of the administrative review, Commerce shall determine, and U.S. Customs and Border Protection (CBP) shall assess, countervailing duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Pursuant to section 751(a)(2)(C) of the Act, Commerce intends to instruct CBP to collect cash deposits of estimated countervailing duties in the amounts indicated above on shipments of subject merchandise entered, or withdrawn from warehouse, for consumption on or after the date of publication of the final results of this review. For all non-reviewed firms, we will instruct CBP to continue to collect cash deposits of estimated countervailing duties at the most recent company-specific or all-others rate applicable to the company, as appropriate. These cash deposit instructions, when imposed, shall remain in effect until further notice.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act and 19 CFR 351.221(b)(5).

Dated: October 24, 2022.
Lisa W. Wang,
Assistant Secretary for Enforcement and Compliance.

Appendix I

Scope of the Order

The scope of the Order covers certain forged stainless steel flanges, whether unfinished, semi-finished, or finished (certain forged stainless steel flanges). Certain forged stainless steel flanges are generally manufactured to, but not limited to, the material specification of ASTM/ASME A/SA182 or comparable domestic or foreign specifications. Certain forged stainless steel flanges are made in various grades such as, but not limited to, 304, 304L, 316, and 316L (or combinations thereof). The term “stainless steel” used in this scope refers to an alloy steel containing, by actual weight, 1.2 percent or less of carbon and 10.5 percent or more of chromium, with or without other elements.

Unfinished stainless steel flanges possess the approximate shape of finished stainless steel flanges and have not yet been machined to final specification after the initial forging or like operations. These machining processes may include, but are not limited to, boring, facing, spot facing, drilling, tapering, threading, beveling, heating, or compressing. Semi-finished stainless steel flanges are unfinished stainless steel flanges that have undergone some machining processes.

The scope includes six general types of flanges. They are: (1) weld neck, generally used in butt-weld line connection; (2) threaded, generally used for threaded line connections; (3) slip-on, generally used to slide over pipe; (4) lap joint, generally used with stub-ends/butt-weld line connections; (5) socket weld, generally used to fit pipe into a machine recession; and (6) blind, generally used to seal off a line. The sizes and descriptions of the flanges within the scope include all pressure classes of ASME B16.5 and range from one-half inch to twenty-four inches nominal pipe size. Specifically excluded from the scope of this Order are cast stainless steel flanges. Cast stainless steel flanges generally are manufactured to specification ASTM A351.

The country of origin for certain forged stainless steel flanges, whether unfinished, semi-finished, or finished is the country where the flange was forged. Subject merchandise includes stainless steel flanges as defined above that have been further processed in a third country. The processing includes, but is not limited to, boring, facing, spot facing, drilling, tapering, threading, beveling, heating, or compressing, and/or any other processing that would not otherwise remove the merchandise from the scope of the Order if performed in the country of manufacture of the stainless steel flanges.

Merchandise subject to the Order is typically imported under headings 7307.21.1000 and 7307.21.5000 of the Harmonized Tariff Schedule of the United States (HTSUS). While HTSUS subheadings and ASTM specifications are provided for convenience and customs purposes, the written description of the scope is dispositive.

Appendix II

Companies Not Selected for Individual Examination

1. Ae Engineers and Exporters

2. Armstrong International Pvt. Ltd.

3. Avini Metal Limited

4. Balkrishna Steel Forge Pvt. Ltd.

5. Bebitz Flanges Works Pvt. Ltd.

6. BFN Forgings Private Limited

7. Broadway Overseas Ltd.

8. CD Industries (Prop. Kisaan Engineering Works Pvt. Ltd.).

9. CHW Forge Private

10. Dart Global Logistics Pvt.

11. Dongguan Good Luck Industrial Co., Ltd.

12. Dongguan Good Luck Furniture Industrial Co., Ltd.

13. Echjay Forgings Private Limited

14. Emerson Process Management

15. Expeditors International

16. Fivebros Forgings Pvt. Ltd.

17. Fluid Controls Pvt. Ltd.

18. G I Auto Private.

19. G. I. Auto Pvt. Ltd.

20. Hilton Metal Forging Limited

21. Jai Auto Pvt. Ltd.

22. Jay Jagdamba Ltd.

23. Jay Jagdamba Profile Private Limited

24. Jay Jagdamba Forgings Private Limited

25. Katariya Steel Distributors

26. Kisaan Die Tech Pvt. Ltd.

27. Pashupati lspat Pvt. Ltd.

28. Pashupati Tradex Pvt., Ltd.

29. Pradeep Metals Ltd.

30. Rajan Techno Cast.

31. Rajan Techno Cast Pvt. Ltd.

32. Rolex Fittings India Pvt. Ltd.

33. Rollwell Forge Pvt. Ltd.

34. Safewater Lines (I) Pvt. Ltd.

35. Saini Flange Pvt. Ltd.

36. Saini Flanges Private.

37. Shree Jay Jagdamba Flanges Pvt. Ltd.

38. Transworld Enterprises

39. Viraj Profiles Ltd.

[FR Doc. 2022-23601 Filed 10-28-22; 8:45 am]

BILLING CODE 3510-DS-P